DEPARTMENT OF JUSTICE

Notice of Lodging of United States v. MFS, INC., (A/K/A Mineral Fiber Specialists), Civil Action No. 05-6656, (E.D. PA.) Under the Clean Air Act

Notice is hereby given that on March 9, 2007 a proposed Consent Decree United States v. MFS, Inc., (a/k/a Mineral Fiber Specialists), Civil Action No. 05-6656, (E.D. Pa.) was lodged with the United States District Court for the Eastern District of Pennsylvania.

In this action the United States sought injunctive relief and civil penalties pursuant to Section 113(b) of the Clean Air Act, as amended (“CAA”) 42 U.S.C. 7413(b), for alleged violations by Defendant MFS, Inc. of Section 112 of the CAA, 42 U.S.C. 7412, and the applicable requirements of 40 CFR part 63, subpart DDD. Defendant MFS, Inc. owns and operates a mineral wool production plant in the City of Bethlehem, Northampton County, Pennsylvania and is therefore subject to National Emission Standards for Hazardous Air Pollutants (“NESHAP”) for mineral wool manufacturers codified at 40 CFR part 63, subpart DDD (“Mineral Wool or MW NESHAP”), specifically §§ 63.1175-63.1196. The Consent Decree requires the performance of injunctive relief including initial performance testing of the MFS facility, stipulated penalties for violations of Decree requirements and the payment of a civil penalty to the United States in the amount of $109,000. The Decree authorizes MFS to use an alternative test protocol set forth in Appendix A to the Decree to determine compliance with the particulate matter (“PM”) emission limits set forth in the Mineral Wool NESHAP, set forth in 40 CFR subpart DDD. If EPA determines that MFS has not complied with the NESHAP, the Decree requires MFS to further submit a plan to achieve compliance with the NESHAP subject to EPA review and approval. The Decree provides for stipulated penalties for noncompliance with the Decree requirements.

The Department of Justice will receive for a period of thirty (30) days from the date of this publication comments relating to the lodged Consent Decree. Comments should be addressed to the Assistant Attorney General, Environment and Natural Resources Division, and either e-mailed to pubcomment-ees.enrd@usdoj.gov or mailed to P.O. Box 7611, and should refer to United States v. MFS, Inc. (a/k/a Mineral Fiber Specialists), Civil Action No. 05-6656 (E.D. Pa).

The Consent Decree may be examined at the Office of the United States Attorney for the Eastern District of Pennsylvania in Philadelphia, Pennsylvania, and at U.S. EPA Region III in Philadelphia, Pennsylvania. During the public comment period, the Decree may also be examined on the following Department of Justice Web site, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $9 (5 cents per page reproduction cost) payable to the U.S. Treasury or, if by e-mail or fax, forward a check in that amount to the Consent Decree Library at the stated address.

Virginia Gibson,
Chief, Civil Division, United States Attorney's Office, Eastern District of Pennsylvania.

[FR Doc. 07-1429 Filed 3-22-07; 8:45 am]

BILLING CODE 4410-15-M